DEPARTMENT OF AGRICULTURE

Submission for OMB Review; Comment Request

July 3, 2000

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, D.C. 20503 and to Departmental Clearance office, USDA, OCIO, Mail Stop 7602, Washington, D.C. 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Rural Utilities Service

Title: Request for Release of Lien and/or Approval of Sale

OMB Control Number: 0572-0041.

Summary of Collection: The Rural Utilities Service (RUS) is a credit agency of the U.S. Department of Agriculture (USDA). It makes mortgage loans and loan guarantees to finance electric, telecommunications, and water and waste facilities in rural areas. The RUS loan portfolio totals nearly $42 billion. RUS manages loan programs in accordance with the Rural Electrification Act of 1936, 7 U.S.C. 901 et seq., as amended (RE Act). A 1949 amendment to the RE Act established the telephone program in RUS with the purpose of making loans to furnish and improve rural telephone service. Section 201 of the RE Act provides that loans shall not be made unless RUS finds and certifies that the security for the loan is reasonably adequate and that the loan will be repaid within the time agreed. In addition to providing loans and loan guarantees, one of RUS's main objectives is to safeguard loan security until the loan is repaid.

Need and Use of the Information: A borrower's assets provide the security for a Government loan. The selling of assets reduces the security and increases the risk of loss to the Government. RUS Form 793 allows the telephone program borrower to seek agency permission to sell some of its assets. The form collects detailed information regarding the proposed sale of a portion of the borrower's system.

RUS telephone borrowers fill out the form to request RUS approval in order to sell capital assets. Specifics to the sale of capital assets, including the use of Form 793 and submission of supporting documentation, are covered in REA Bulletin 415-1, “Sale of Property by Telephone Borrowers.” If the information in Form 793 is not collected when capital assets are sold, the capital assets securing the Government's loans could be liquidated and the Government's security either eliminated entirely or diluted to an undesirable level. This increases the risk of loss to the Government in the case of a default.

Description of Respondents: Business or other for-profit; not-for-profit institutions.

Number of Respondents: 75.

Frequency of Responses: Reporting: On occasion.

Total Burden Hours: 206.

Rural Utilities Service

Title: 7 CFR Part 1786, Prepayment of RUS Guaranteed and Insured Loans to Electric and Telephone Borrowers

OMB Control Number: 0572-0088.

Summary of Collection: The Rural Electrification (RE) Act of 1936, as amended, authorizes and empowers the Administrator of RUS to make loans in the several States and Territories of the United States for rural electrification and for the purpose of furnishing and improving electric and telephone service in rural areas and for the purpose of assisting electric borrowers to implement demand side management, energy conservation programs, and on-grid and off-grid renewable energy systems. This information collection package contains the paperwork and reporting burden for 7 CFR Part 1786, subpart E, “Discounted Prepayments on RUS Notes in the Event of a Merger of Certain RUS Electric Borrowers,” subpart F, “Discounted Prepayments on RUS Electric Loans,” and subpart G, “Refinancing and Prepayment of RUS Guaranteed Federal Financing Bank (FEB) Loans Pursuant to Section 306(C) of the RE Act.” 7 CFR 1786, subparts E and F are authorized by Section 306(B) of the RE Act of 1936, as amended, and subpart G is authorized by Section 306(C) of the RE Act of 1936, as amended. 7 CFR Part 1786 also contains subpart B and C, for which authority has expired.

Need and Use of the Information: The overall goal of Subparts E and F is to allow RUS borrowers to prepay their RUS loan and the overall goal of Subpart G is to refinance. Subpart E allows certain electric borrowers to prepay outstanding RUS Notes at the Discounted Present Value of the RUS Notes with private financing. Subpart F allows borrowers to prepay, with private financing or internally generated funds, outstanding RUS Notes evidencing electric loans at the Discounted present value of the RUS Note. Subpart G allows the borrower of an electric or telephone loan made by the FEB and guaranteed by RUS to prepay and refinance a loan or an advance on the loan, or any portion of the loan or advance, after meeting certain conditions using the procedures prescribed in the borrower's note. The information will be collected from borrowers requesting to prepay their notes and will be used to determine that the borrower is qualified to prepay under the authorizing statutes.

Description of Respondents: Business or other for-profit; not-for-profit institutions.

Number of Respondents: 28.

Frequency of Responses: Reporting: On occasion.

Total Burden Hours: 62.

Rural Utilities Service

Title: Distance Learning and Telemedicine Loan and Grant Program (7 CFR 1703, Subpart D, E, F and G).

OMB Control Number: 0572-0096.

Summary of Collection: The Distance Learning and Telemedicine Loan and Grant (DLT) Program provides loans and grants for advanced telecommunications services to improve rural areas' access to educational and medical services.

Need and Use of the Information: The various forms and narrative statements required are collected from eligible applicants (7 CFR Section 1703.103) such as rural community facilities, schools, libraries, hospitals, and medical facilities. The purpose of this information is to determine such factors as: eligibility of the applicant; the specific nature of the proposed project; the purposes for which loan and grant funds will be used; project financial and technical feasibility; and compliance with applicable laws and regulations.

Description of Respondents: Business or other for-profit; not-for-profit institutions; State, Local or Tribal Government.

Number of Respondents: 300.

Frequency of Responses: Recordkeeping; reporting: On occasion.

Total Burden Hours: 17,741.

Rural Utilities Service

Title: State Telecommunications Modernization Plan.

OMB Control Number: 0572-0104.

Summary of Collection: The Rural Electrification Loan Restructuring Act (RELRA, Pub. L. 103-129), November 1, 1993, amended the Rural Electrification Act of 1936, 7 U.S.C. 901 et seq. (the RE Act). RELRA required that a State Telecommunications Modernization Plan (Modernization Plan or Plan), covering at a minimum the Rural Utilities (RUS) borrowers in a State, be prepared in a State or RUS could not make hardship or concurrent cost-of-money and Rural Telephone Bank (RTB) loans for construction in that State. The Modernization Plan must meet all the statutory requirements of RELRA (Part 1751, Subpart B). The minimum requirements for a Plan are: (1) The Plan must provide for the elimination of party line service; (2) The Plan must provide for the availability of telecommunications services for improved business, educational, and medical services; (3) The Plan must encourage computer networks and information highways for subscribers in rural areas; (4) The Plan must provide for: (i) Subscribers in rural areas to be able to receive through telephone lines: (a) Conference calling; (b) Video images; and (c) Data at a rate of 1 million bits of information per second; and, (ii) The proper routing of information to subscribers; (5) The plan must provide for uniform deployment schedules to ensure that advanced services are deployed at the same time in rural and non-rural areas; (6) The plan must provide for such additional requirements for service standards as may be required by the Administer.

Need and Use of the Information: Modernization Plans will be reviewed by the RUS telecommunications program staff to ensure that it complies with the requirements of the regulation. If the proposed Modernization Plan does comply, RUS will approve it and notify the developer of the approval. If not, RUS will make specific written comments and suggestions for modifying the proposed Modernization Plan so that it will comply with the requirements of the regulation. If the information is not collected, RUS' authority to make loans under the Rural Electrification Act will be restricted.

Description of Respondents: Business or other for-profit; not-for-profit institutions.

Number of Respondents: 1.

Frequency of Responses: Reporting: On occasion.

Total Burden Hours: 350.

Rural Housing Service

Title: Rural Housing Loans, 7 CFR 1980-D.

OMB Control Number: 0575-0078.

Summary of Collection: The Rural Housing Service (RHS) is a credit agency for rural development for the U.S. Department of Agriculture. The purpose of the Guaranteed Rural Housing (GRH) program is to assist low and moderate-income individuals and families in acquiring or constructing a single-family residence in a rural area with loans made by private lenders. The information requested by RHS includes borrower financial information such as household income, assets and liabilities, and monthly expenses. RHS will collect information using several agency forms.

Need and use of the Information: All information collected is vital for RHS to determine if borrowers qualify for loans and to ensure they receive all assistance for which they are eligible. Information requested from lenders is required to ensure they are eligible to participate in the GRH program and are in compliance with OMB Circular A-129.

Description of Respondents: Individuals or households; business or other for-profit; State, Local or Tribal Government.

Number of Respondents: 47,200.

Frequency of Responses: Reporting: On occasion.

Total Burden Hours: 154,250.

Rural Housing Service

Title: 7 CFR 1951-F, Analyzing Credit Needs and Graduation of Borrower.

OMB Control Number: 0575-0093.

Summary of Collection: Section 333 of the Consolidated Farm and Rural Development Act and Section 502 of the Housing Act of 1949, require the Rural Housing Service (RHS), the Rural Business-Cooperative Service (RBS), and the Farm Service Agency (FSA) to graduate their direct loan borrowers to other credit when they are able to do so. Graduation is an integral part of Agency lending, as Government loans are not meant to be extended beyond a borrower's need for subsidized rates of non-market terms. The notes, security instruments, or loan agreements of most borrowers require borrowers to refinance their Agency loans when other credit becomes available at reasonable rates and terms. If a borrower finds other credit is not available at reasonable rates and terms, the Agency will continue to review the borrower for possible graduation at periodic intervals. Information will be collected from the borrowers concerning their loans.

Need and Use of the Information: The information collected will include financial data such as amount of income, farm operating expenses, asset values, and liabilities. The information collected is submitted by FSA, RBS, or RHS borrowers to Agency offices. The information will be used in the Agency's effort to graduate direct borrowers to private credit with or without the use of Agency loan guarantees.

Description of Respondents: Individuals or households; Business or other for-profit; Farms; State, Local or Tribal Government.

Number of Respondents: 25,047.

Frequency of Responses: Reporting: Annually.

Total Burden Hours: 75,361.

Agricultural Marketing Service

Title: Farmers' Market Questionnaire.

OMB Control Number: 0581-0169.

Summary of Collection: The Transportation and Marketing (T&M) Program, Agricultural Marketing Service (AMS) conducts research to find better designs, development techniques, and operating methods for modern farmers' markets under the Agency's Wholesale and Alternative Markets Program. Recommendations are made available to local decision-makers interested in constructing modern farmers' markets to serve area producers and consumers. Individual studies are conducted in close cooperation with local interested parties. The information will be collected using form TM-6 “Farmers' Market Questionnaire.”

Need and Use of the Information: Conventional wisdom states that the number and size of farmers' markets has grown over the last several years. Research has not been done to prove that point. The form submitted for approval will serve as a survey instrument to obtain a clearer picture of existing farmers' market structure to provide a basis for the future design of modern direct marketing facilities and will provide a measure of growth over the last 4 years. T&M researchers will survey by mail, with telephone follow-up, the managers of farmers' markets identified in the 2000 National Farmers' Market Directory. In addition, provision will be made for e-mail reporting. These markets represent a varied range of sizes, geographical locations, types, ownership, and structure. These markets will provide a valid overview of farmers' markets in the United States. Information such as the size of markets, operating times and days, retail and wholesale sales, management structure, and rules and regulations governing the markets are all important questions that need to be answered in the design of a new market. The information developed by this survey will support better designs, development techniques, and operating methods for modern farmers' markets and outline improvements that can be applied to revitalize existing markets.

Description of Respondents: Not-for-profit institutions.

Number of Respondents: 1,200.

Frequency of Responses: Reporting: Biennially.

Total Burden Hours: 300.

Nancy B. Sternberg,
Departmental Clearance Officer.

[FR Doc. 00-17378 Filed 7-7-00; 8:45 am]

BILLING CODE 3410-01-M